ENVIRONMENTAL PROTECTION AGENCY

[FRL-7420-6]

Proposed Settlement Agreement, Clean Air Act Citizen Suit

AGENCY: Environmental Protection Agency (EPA).

ACTION: Notice of proposed consent decree; request for public comment.

SUMMARY: In accordance with section 113(g) of the Clean Air Act, as amended (“Act”), 42 U.S.C. 7413(g), notice is hereby given of a proposed consent decree which was lodged with the United States District Court for the District of Columbia by the United States Environmental Protection Agency on November 14, 2002, to address two lawsuits filed by the New York Public Interest Research Group, Inc. and the Sierra Club and Georgia ForestWatch. The lawsuits were filed pursuant to section 304(a) of the Act, 42 U.S.C. 7604(a), and allege that the Administrator failed to meet a mandatory sixty day deadline under section 505(b)(2) of the Act, 42 U.S.C. 7661d(b)(2), for granting or denying petitions seeking the Agency's objection to eleven Clean Air Act Title V operating permits issued by the New York State Department of Environmental Conservation and eight Title V operating permits issued by the Georgia Environmental Protection Division. The lawsuits have been consolidated and both are addressed by the proposed consent decree, which establishes a schedule for the Administrator to respond to the outstanding petitions that are subject to the lawsuits.

DATES: Written comments on the proposed consent decree must be received by January 13, 2003.

ADDRESSES: Written comments should be sent to Padmini Singh (on the New York petition deadlines) or Kerry E. Rodgers (on the Georgia petition deadlines), Air and Radiation Law Office (MC 2344A), Office of General Counsel, United States Environmental Protection Agency, 1200 Pennsylvania Avenue, NW., Washington, DC 20460. Copies of the proposed consent decree are available from Phyllis J. Cochran, (202) 564-7606. A copy of the proposed consent decree was lodged with the Clerk of the United States District Court for the District of Columbia on November 14, 2002.

SUPPLEMENTARY INFORMATION: New York Public Interest Research Group, Inc. (“NYPIRG”) alleges that the United States Environmental Protection Agency (“EPA”) Administrator failed to meet a mandatory sixty day deadline under section 505(b)(2) of the Act, 42 U.S.C. 7661d(b)(2), for granting or denying petitions seeking EPA's objection to eleven Title V operating permits issued by the New York State Department of Environmental Conservation. Sierra Club and Georgia Forest Watch allege that the Administrator failed to meet the same deadline under section 505(b)(2) for granting or denying petitions seeking EPA's objection to eight Title V operating permits issued by the Georgia Environmental Protection Division.

Prior to negotiating the proposed consent decree, the Administrator signed orders responding to three petitions for New York facilities and three petitions for Georgia facilities that are subject to the lawsuits. The proposed consent decree establishes a schedule for EPA's responses to the remaining petitions that are subject to the lawsuits. Specifically, the proposed consent decree requires EPA to sign orders responding to the plaintiffs' petitions for the following facilities (listed with the states in which they are located) no later than the dates specified:

(a) King Finishing (GA)—October 15, 2002;

(b) Monroe Power (GA)—October 15, 2002;

(c) Shaw Industries, Plant No. 80 (GA)—November 15, 2002;

(d) Shaw Industries, Plant No. 2 (GA)—November 15, 2002;

(e) Oglethorpe Power Wansley Combined Cycle Energy Facility (GA)—November 15, 2002;

(f) Columbia University (NY)—December 15, 2002;

(g) Elmhurst Hospital (NY)—December 15, 2002;

(h) Starrett City (NY)—December 15, 2002;

(i) Bergen Point Sewage Treatment Plant (NY)—December 15, 2002;

(j) Maimonides Medical Center (NY)—December 15, 2002;

(k) Lovett Generating Station (NY)—January 30, 2003;

(l) Danskammer Generating Station (NY)—January 30, 2003;

(m) Con Edison 74th Street Station (NY)—January 30, 2003.

The proposed consent decree also requires EPA to provide the plaintiffs with notice of signature of each order within five business days following signature. In addition, the proposed consent decree requires EPA to deliver a notice of each order to the Office of Federal Register for prompt publication no later than thirty days following signature and to not take any steps to delay publication of such notice. After EPA has fulfilled all of its obligations under the proposed consent decree, the proposed consent decree will terminate and the lawsuits will be dismissed with prejudice.

For a period of thirty days following the date of publication of this notice, EPA will receive written comments relating to the proposed consent decree from persons who were not named as parties or intervenors to the lawsuits in question. EPA or the United States Department of Justice may withdraw or withhold consent to the proposed consent decree if the comments disclose facts or considerations that indicate that such consent is inappropriate, improper, inadequate, or inconsistent with the requirements of the Act. Unless EPA or the United States Department of Justice determines, following the comment period, that consent is inappropriate, the final consent decree will be entered with the court and will establish deadlines for the Administrator's responses to the remaining petitions that are subject to the lawsuits in question.

Dated: December 4, 2002.
Lisa K. Friedman,
Associate General Counsel, Air and Radiation Law Office, Office of General Counsel.

[FR Doc. 02-31359 Filed 12-11-02; 8:45 am]

BILLING CODE 6560-50-P